DEPARTMENT OF THE INTERIOR

National Park Service

[NPS-WASO-NAGPRA-17344;[PPWOCRADN0-PCU00RP14.R50000]

Notice of Inventory Completion: Milwaukee Public Museum, Milwaukee, WI

AGENCY: National Park Service, Interior.

ACTION: Notice.

SUMMARY: The Milwaukee Public Museum has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Milwaukee Public Museum. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Milwaukee Public Museum at the address in this notice by March 6, 2015.

ADDRESSES: Dawn Scher Thomae, Milwaukee Public Museum, 800 W. Wells Street, Milwaukee, WI 53233, telephone (414) 278-6157, email thomae@mpm.edu.

SUPPLEMENTARY INFORMATION: Notice is here given in accordance with the Native American Graves Protection and Repatriation Act (NAGPRA), 25 U.S.C. 3003, of the completion of an inventory of human remains and associated funerary objects under the control of the Milwaukee Public Museum, Milwaukee, WI. The human remains and associated funerary objects were removed from the Massee Rock Shelter, Isle Royale, Keweenaw County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Milwaukee Public Museum professional staff in consultation with representatives of Bad River Band of the Lake Superior Tribe of Chippewa Indians of the Bad River Reservation, Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; White Earth Band of Minnesota Chippewa Tribe.

These groups were also invited to consult with MPM: Bois Forte (Nett Lake) of the Minnesota Chippewa Tribe; Chippewa-Cree Indians of the Rocky Boy's Reservation; Fond du Lac Band of the Minnesota Chippewa Tribe; Grand Portage Band of the Minnesota Chippewa Tribe; Menominee Nation, Wisconsin; Red Lake Band of Chippewa Indians, Minnesota Sokaogon Chippewa Community, Wisconsin; St. Croix Chippewa Indians of Wisconsin; Montana; and Turtle Mountain Band of Chippewa Indians of North Dakota.

History and Description of the Remains

In 1928, human remains representing, at minimum, 15 individuals were removed from the Massee Rock Shelter, Isle Royale (20-IR-14) in Keweenaw County, MI. The human remains and associated funerary objects were removed by Mr. George West and group who were on an expedition to examine sites related to native copper mining in the Lake Superior region. They stopped on the island and were led to the rock shelter by a local fisherman. The minimum number of individuals is 10 adults and 5 sub adults. Based on several indicators, at least eight of the individuals appear to be male and five appear to be female. No known individuals were identified. The two associated funerary objects are bird skeletons.

Determinations Made by the Milwaukee Public Museum

Officials of the Milwaukee Public Museum have determined that:

• Pursuant to 25 U.S.C. 3001(9), the human remains described in this notice are Native American based on examination by three individuals with extensive knowledge and training in identifying Native American human remains.

• Pursuant to 25 U.S.C. 3001(9), the human remains described in this notice represent the physical remains of at least 15 individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; and White Earth Band of Minnesota Chippewa Tribe.

• Treaties, Acts of Congress, or Executive Orders, indicate that the land from which the Native American human remains and associated funerary objects were removed is the aboriginal land of Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; and White Earth Band of Minnesota Chippewa Tribe.

• Pursuant to 43 CFR 10.11(c)(1), the disposition of the human remains and associated funerary objects may be to the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; and White Earth Band of Minnesota Chippewa Tribe.

Additional Requestors and Disposition

Representatives of any Indian tribe or Native Hawaiian organization not identified in this notice that wish to request transfer of control of these human remains and associated funerary objects should submit a written request with information in support of the request to Dawn Scher Thomae, Milwaukee Public Museum, 800 W. Wells Street, Milwaukee, WI 53233, telephone (414) 278-6157, email thomae@mpm.edu, by March 6, 2015. After that date, if no additional requestors have come forward, transfer of control of the human remains and associated funerary objects to Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; and White Earth Band of Minnesota Chippewa Tribe may proceed.

The Milwaukee Public Museum is responsible for notifying the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe; Mille Lacs Band of the Minnesota Chippewa Tribe; Red Cliff Band of Lake Superior Chippewa Indians of Wisconsin; and White Earth Band of Minnesota Chippewa Tribe that this notice has been published.

Dated: December 17, 2014.
Melanie O'Brien,
Acting Manager, National NAGPRA Program.

[FR Doc. 2015-02216 Filed 2-3-15; 8:45 am]

BILLING CODE 4312-50-P